DEPARTMENT OF TRANSPORTATION

Federal Transit Administration

Intent To Prepare an Environmental Impact Statement for Transit Improvements in the Westside Extension Transit Corridor, Los Angeles, CA

AGENCY: Federal Transit Administration, DOT.

ACTION: Notice of Intent to Prepare an Environmental Impact Statement.

SUMMARY: The Federal Transit Administration (FTA) and the Los Angeles County Metropolitan Transportation Authority (LACMTA) intend to prepare an Environmental Impact Statement (EIS) for the proposed transit improvements in the Westside Extension Transit Corridor in Los Angeles County, California. The proposed project would provide for transit improvements within the Westside Extension Transit Corridor.

The EIS will be prepared in accordance with the requirements of the National Environmental Policy Act (NEPA) and its implementing regulations, as well as provisions of the recently enacted Safe, Accountable, Flexible, Efficient Transportation Equity Act: A Legacy for Users. LACMTA will also use the EIS document to comply with the California Environmental Quality Act (CEQA), which requires an Environmental Impact Report (EIR). The purpose of this notice is to alert interested parties regarding the intent to prepare the EIS to provide information on the nature of the proposed project and possible alternatives, to invite public participation in the EIS process (including providing comments on the scope of the Draft Environmental Impact Statement (DEIS), to announce that public scoping meetings will be conducted, and to identify participating and cooperating agency contacts.

DATES: Written comments on the scope of the EIS, should be sent to LACMTA on or before May 7, 2009 at the address below. Public scoping meetings to accept comments on the scope of the EIS/EIR will be held on the following dates:

• Monday, April 13, 2009, from 6 p.m. to 8 p.m., at Los Angeles County Museum of Art, 5905 Wilshire Boulevard, Los Angeles, CA 90036.

• Tuesday, April 14, 2009, from 6 p.m. to 8 p.m., at Plummer Park, 7377 Santa Monica Boulevard, West Hollywood, CA 90046.

• Thursday, April 16, 2009, from 6 p.m. to 8 p.m., at Beverly Hills Public Library, 444 N. Rexford Drive, Beverly Hills, CA 90210.

• Monday, April 20, 2009, from 6 p.m. to 8 p.m., at Westwood Presbyterian Church, 10822 Wilshire Boulevard, Los Angeles, CA 90024.

• Thursday, April 23, 2009, from 6 p.m. to 8 p.m., at Santa Monica Public Library, 601 Santa Monica Boulevard, Santa Monica, CA 90401.

The project's purpose and need, and the description of alternatives for the proposed project will be presented at these meetings. The buildings used for the scoping meetings are accessible to persons with disabilities. Any individual who requires special assistance, such as a sign language interpreter, to participate in a scoping meeting should contact Ms. Jody Litvak, Community Relations Manager, Los Angeles County Metropolitan Transportation Authority (LACMTA) at 213-922-1240, or litvakj@metro.net.

Scoping materials will be available at the meetings and on the LACMTA Web site (http://www.metro.net/westside). Paper copies of the scoping materials may also be obtained from Ms. Jody Litvak, Community Relations Manager, LACMTA, at 213-922-1240, or litvakj@metro.net. An interagency scoping meeting will be held on Monday, April 13, 2009 from 10 a.m. to 12 p.m. at the LACMTA, in the Windsor Conference Room, 15th Floor, One Gateway Plaza, Los Angeles, CA 90012. Representatives of Native American tribal governments and of all Federal, State, regional and local agencies that may have an interest in any aspect of the project will be invited to be participating or cooperating agencies, as appropriate.

ADDRESSES: Written comments should be sent to Mr. David Mieger, AICP, Project Director and Deputy Executive Officer, Los Angeles County Metropolitan Transportation Authority (LACMTA), One Gateway Plaza, Los Angeles, CA 90012, phone 213-922-3040, e-mail address miegerd@metro.net.

FOR FURTHER INFORMATION CONTACT: Mr. Ray Tellis, Team Leader, Los Angeles Metropolitan Office, Federal Transit Administration, 888 South Figueroa Street, Suite 1850, Los Angeles, CA 90017, phone 213-202-3950, e-mail ray.tellis@dot.gov.

SUPPLEMENTARY INFORMATION:

The Proposed Project

The proposed subway extension project is in western Los Angeles County and includes portions of five jurisdictions: the Cities of Los Angeles, West Hollywood, Beverly Hills, Santa Monica, as well as portions of unincorporated Los Angeles County. The project is generally bounded by the Santa Monica Mountains along Hollywood, Sunset and San Vicente Boulevards, east to the Metro Rail stations at Hollywood/Highland and Wilshire/Western, south to Pico Boulevard, and west to the Pacific Ocean. Project length for the Wilshire Boulevard Subway Alignment Heavy Rail (Alternative 1) is 12.5 miles extending from the Metro Purple Line Wilshire/Western Station to 4th Street and Wilshire Boulevard in Santa Monica and would include 10 stations and 1 optional station. Wilshire/Santa Monica Boulevards Combined HRT Subway (Alternatives 11) includes the full Wilshire Boulevard HRT Subway and adds a second line extending west from the Metro Red Line Hollywood/Highland Station via Santa Monica Boulevard to join the Wilshire Line in Beverly Hills. The total combined line is 17 miles long and includes 14 stations and 1 optional station. Population and employment densities in the Project area are among the highest in the metropolitan region, averaging approximately 13,100 persons per square mile and 12,500 jobs per square mile. These high population and employment concentrations make the Project Area one of the densest places to live and work in the county.

The proposed Westside Extension project would offer a viable alternative to driving in the heavily congested Project Area. The mobility improvements offered by such a system will improve job accessibility for transit-dependent residents within, as well as outside, the Project Area, as well as greater Los Angeles, and improve transportation equity for all population groups. The high-quality transit solution will complement existing transit-supporting land uses and present new opportunities for mixed-use and high-density development in the Project Area.

The various alternatives to be considered for the Westside Extension project generally traverse Wilshire Boulevard from the Metro Purple Line Wilshire/Western station to 4th Street and Wilshire Boulevard in Santa Monica (Alternative 1), and a second line extending west from the Metro Red Line Hollywood/Highland Station via Santa Monica Boulevard to join the Wilshire Line in Beverly Hills (Alternative 11).

Purpose and Need for the Project

The purpose of the project is to address the mobility needs of residents, workers, and visitors traveling to, from, and within the highly congested Westside Extension Study Area by providing faster and more reliable high-capacity public transportation than existing services which operate in mixed-flow traffic. This proposed subway improvement will bring about a significant increase in east-west capacity and improvement in person-mobility by reducing transit travel time. On a county-wide level, the project will strengthen regional access by connecting Metro bus, Metro rail, and Metrolink networks to a high-capacity transit serving the Study Area. The overall goal of the project is to improve mobility in the Westside Extension Transit Corridor by extending the benefits of the existing Metro Red/Metro Purple Line rail and bus services beyond their current termini near Highland Avenue and/or Western Avenue in Los Angeles as far as Ocean Avenue in Santa Monica.

Mobility problems and the need for improvements in this corridor have been well documented in many studies, including the numerous Metro Red Line planning studies, Southern California Association of Governments (SCAG) planning studies, the Mid-City/Westside Transit Corridor Re-Evaluation/Major Investment Study (2000), the Metro Rapid Demonstration Project (2000), the Mid-City/Westside Transit Corridor Draft EIS/EIR (2001), the American Public Transit Association Review of Wilshire Corridor Tunneling (2005), and in the Southern California Association of Governments Regional Transportation Plan (2008).

Most recently, an Alternatives Analysis Study for the Westside Extension Transit Corridor as required by 49 U.S.C. 5309 for New Starts-funded projects, was completed and, was adopted by the LACMTA Board of Directors on January 22, 2009, and is available for review on the project Web site at http://www.metro.net/westside. The public and participating and cooperating agencies are invited to consider and comment on this statement of the purpose and need for the proposed subway project.

Alternatives

The Westside Extension proposes to extend the Metro Rail heavy rail technology westward from the terminus of the Metro Purple Line at the Wilshire/Western station and potentially a second leg from the Metro Red Line at the Hollywood/Highland station. The Alternatives Analysis (AA) Study was completed in January 2009. The process began with the identification of initial conceptual alternatives and early public and agency scoping. Then a set of 17 initial conceptual alternatives was identified, screened, and narrowed down to a most promising set of five alternatives. These five alternatives were then evaluated at a more detailed level and as a result, the following two subway alignment alternatives plus the No Build and Transportation Systems Management (TSM) alternatives were recommended to be carried forward for analysis in the EIS:

Wilshire Boulevard Alignment Heavy Rail Transit (HRT) Subway: This alternative alignment extends underground from the Metro Purple Line Wilshire/Western station to 4th Street and Wilshire Boulevard in Santa Monica. It has 10 stations and 1 optional station. The alignment is generally under Wilshire Boulevard with various route alignments between Century City and Santa Monica.

Wilshire/Santa Monica Boulevard Combined HRT Subway: This alignment alternative extends underground from the Metro Purple Line Wilshire/Western station and from the Metro Red Line at the Hollywood/Highland station to 4th Street and Wilshire Boulevard in Santa Monica. It has 14 stations and 1 optional station.

This alternative has two alignment options in the Beverly Center area. One option follows San Vicente Boulevard from Santa Monica Boulevard to La Cienega Boulevard, where it curves south and then west to meet the Wilshire Boulevard alignment. The second option follows La Cienega Boulevard from Santa Monica Boulevard, past the Beverly Center, and curves west at Wilshire Boulevard.

Minimum Operable Segments: A total of four Minimum Operable Segment Alternatives will be included for analysis including the following: (1) Wilshire Boulevard HRT Subway from Wilshire/Western to Fairfax (3 miles); (2) Wilshire Boulevard HRT Subway from Wilshire/Western to Century City (6.5 miles); (3) Wilshire Boulevard HRT Subway from Wilshire/Western to Westwood/UCLA vicinity (8 to 9.5 miles); and (4) MOS #3 plus Metro Red Line HRT Subway from Hollywood/Highland via Santa Monica Boulevard (12.5 to 14 miles).

No Build Alternative: This EIS will also consider the No Build Alternative that includes all existing highway and transit services and facilities and the committed highway and transit projects in the current LACMTA Long Range Transportation Plan and the current 2008 Southern California Association of Governments' Regional Transportation Plan. No new infrastructure would be built within the Study Area, aside from projects currently under construction, or funded for construction and operation by 2030 by the recently approved Measure R and identified in the LACMTA Long Range Transportation Plan. Proposed major highway improvements affecting the Westside Extension Transit Corridor between now and 2030 include completing missing segments of high occupancy vehicle (HOV) lanes on Interstate 405 (I-405) Freeway. From a rail transit perspective, the No Build Alternative includes the Metro Purple and Metro Red Lines along the eastern and northeastern edges of the study area. This alternative also includes a rich network of local, express, and Metro Rapid bus routes that will continue to be provided, with both bus route and additions and modifications proposed.

Transportation System Management (TSM) Alternative: The EIS will also consider the TSM Alternative which enhances the No Build Alternative and improves upon the existing Metro Rapid Bus service and local bus service in the Westside Extension Transit Corridor study area. This alternative emphasizes more frequent service and low cost capital and operations improvements to reduce delay and enhance mobility. Although the frequency of service is already very good, this alternative considers improved bus services during peak periods on selected routes.

In addition to the alternatives described above, other transit alternatives not previously considered in the Alternatives Analysis Study and brought forward during the public and agency scoping process will be evaluated for potential inclusion in the EIS.

The EIS Process and the Role of Participating Agencies and the Public

The purpose of the EIS process is to explore, in a public setting, the effects of the proposed project and its alternatives on the physical, human, and natural environment. The FTA and LACMTA will evaluate all significant environmental, social, and economic impacts of the construction and operation of the proposed subway project. Impact areas to be addressed include: transportation, land use and development, land acquisition, displacements and relocations, cultural resources (including historical, archaeological and paleontological resources and parklands/recreation areas), community and neighborhood compatibility and environmental justice, visual and aesthetic impacts, natural resources (including air quality, wetlands, water resources, noise, vibration), climate change and energy use, safety and security, geotechnical factors (including subsurface and seismic hazards) and hazardous materials, and wildlife and ecosystems (including endangered species). Measures to avoid, minimize, and mitigate all adverse impacts will be identified and evaluated.

The regulations implementing NEPA, including the provisions of the Safe, Accountable, Flexible, Efficient Transportation Equity Act: A Legacy for Users (SAFETEA-LU), call for public involvement in the EIS process. Section 6002 of SAFETEA-LU requires that FTA and LACMTA do the following: (1) Extend an invitation to other Federal and non-Federal agencies and Native American tribes that may have an interest in the proposed project to become “participating agencies;” (2) provide an opportunity for involvement by participating agencies and the public to help define the purpose and need for a proposed project, as well as the range of alternatives for consideration in the EIS; and (3) establish a plan for coordinating public and agency participation in, and comment on, the environmental review process. An invitation to become a participating or cooperating agency, with scoping materials appended, will be extended to other Federal and non-Federal agencies and Native American tribes that may have an interest in the proposed project. It is possible that FTA and LACMTA will not be able to identify all Federal and non-Federal agencies and Native American tribes that may have such an interest. Any Federal or non-Federal agency or Native American tribe interested in the proposed project that does not receive an invitation to become a participating agency should notify at the earliest opportunity the Project Manager identified above under ADDRESSES.

A comprehensive public involvement program and a Coordination Plan for public and interagency involvement will be developed for the project and posted by LACMTA on the project Web page at http://www.metro.net/westside. The public involvement program includes a full range of activities including a public scoping process to define the issues of concern among all parties interested in the project: a project Web page on the LACMTA Web site, development and distribution of project newsletters, and other information pieces: outreach to local officials, community and civic groups, periodic meetings with various local agencies, organizations, and committees, the general public, and a public hearing on release of the draft environmental impact statement (DEIS). Specific activities or events for involvement will be detailed in the public involvement program.

LACMTA may seek New Starts funding for the proposed project under 49 United States Code 5309 and will, therefore, be subject to New Starts regulations (49 Code of Federal Regulations (CFR) part 611). The New Starts regulation requires a planning Alternatives Analysis that leads to the selection of a Locally Preferred Alternative and the inclusion of this alternative in the long-range transportation plan adopted by the LACMTA and Southern California Association of Governments. LACMTA has completed the planning Alternatives Analysis Study in January 2009. The New Starts regulations also require the submission of certain project-justification information to support a request to initiate preliminary engineering. This information is normally developed in conjunction with the NEPA process. Pertinent New Starts evaluation criteria will be included in the EIS.

The EIS will be prepared in accordance with the National Environmental Policy Act and its implementing regulations issued by the Council on Environmental Quality (40 CFR parts 1500-1508) and with the FTA/Federal Highway Administration regulations “Environmental Impact and Related Procedures” (23 CFR part 771). In accordance with 23 CFR 771.105(a) and 771.133, FTA will comply with all Federal environmental laws, regulations, and executive orders applicable to the proposed project during the environmental review process to the maximum extent practicable. These requirements include, but are not limited to, the environmental and public hearing provisions of Federal transit laws (49 U.S.C. 5301(e), 5323(b), and 5324); the project-level air quality conformity regulation of the U.S. Environmental Protection Agency (EPA) (40 CFR part 93); the section 404(b)(1) guidelines of EPA (40 CFR part 230); the regulation implementing section 106 of the National Historic Preservation Act (36 CFR part 800); the regulation implementing section 7 of the Endangered Species Act (50 CFR part 402); section 4(f) of the Department of Transportation Act (23 CFR 771.135); and Executive Orders 12898 on environmental justice, 11988 on floodplain management, and 11990 on wetlands.

Issued on: March 24, 2009.
Leslie T. Rogers,
Regional Administrator, Federal Transit Administration, Region IX.

[FR Doc. E9-6917 Filed 3-26-09; 8:45 am]

BILLING CODE 4910-57-P